DEPARTMENT OF THE INTERIOR

Bureau of Land Management

[BLM_NV_FRN_MO 4500169399]

Notice of Intent To Prepare an Environmental Impact Statement and Notice of Segregation for the Proposed Libra Solar Project in Mineral and Lyon Counties, Nevada

AGENCY: Bureau of Land Management, Interior.

ACTION: Notice of intent and segregation.

SUMMARY: In compliance with the National Environmental Policy Act of 1969, as amended (NEPA), and the Federal Land Policy and Management Act of 1976, as amended (FLPMA), the Bureau of Land Management (BLM) Carson City District Office intends to prepare an Environmental Impact Statement (EIS) to consider the effects of the proposed Libra Solar Project and by this notice is announcing the beginning of the scoping period to solicit public comments and identify issues, and is providing the planning criteria for public review. Through this notice the BLM is also announcing the segregation of public lands included in the right-of-way application for the Libra Solar Project from appropriation under the public land laws, including the Mining Law, but not the Mineral Leasing or Material Sales Acts, for a period of two (2) years from the date of publication of this notice, subject to valid existing rights. This segregation is to facilitate the orderly administration of the public lands while the BLM considers potential solar development on the described parcel.

DATES: This notice initiates the public-scoping process for the EIS. The BLM requests the public submit comments concerning the scope of the analysis, potential alternatives, and identification of relevant information, and studies by May 24, 2023. To afford the BLM the opportunity to consider issues raised by commenters in the Draft EIS, please ensure your comments are received prior to the close of the 30-day scoping period or 15 days after the public meeting, whichever is later. The BLM will conduct a public scoping meeting (virtually) which will be held on May 8, 2023, from 6:00 p.m. to 8:00 p.m. PT. Additional information on the meeting, including how to register, can be found on the project ePlanning website at: https://eplanning.blm.gov/eplanning-ui/project/2022592/510.

The segregation for the public lands identified in this notice takes effect on April 24, 2023.

ADDRESSES: You may submit comments by any of the following methods:

* Email: blm_nv_ccdo_libra_solar@blm.gov

* Online via ePlanning: https://eplanning.blm.gov/eplanning-ui/project/2022592/510

* Mail: BLM, Carson City District Office, Attn: Libra Solar Project, 5665 Morgan Mill Road, Carson City, NV 89701

Documents pertinent to this proposal may be examined online at the project ePlanning page: https://eplanning.blm.gov/eplanning-ui/project/2022592/510 and at the Carson City District Office.

FOR FURTHER INFORMATION CONTACT: Melanie Hornsby, Project Manager, telephone 775-885-6024; address 5665 Morgan Mill Road, Carson City, Nevada 89701; email blm_nv_ccdo_libra_solar@blm.gov. Contact Melanie Hornsby to have your name added to our mailing list. Individuals in the United States who are deaf, deafblind, hard of hearing, or have a speech disability may dial 711 (TTY, TDD, or TeleBraille) to access telecommunications relay services for contacting Melanie Hornsby. Individuals outside the United States should use the relay services offered within their country to make international calls to the point-of-contact in the United States.

SUPPLEMENTARY INFORMATION: On September 16, 2020, Libra Solar LLC (Applicant) filed a right-of-way (ROW) application with the BLM Carson City District Office for the Libra Solar Project (Project), requesting authorization to construct, operate, maintain, and eventually decommission a 700-megawatt photovoltaic solar electric generating facility, battery storage facility, associated generation tie-line, and access road facilities.

The proposed project requests use of approximately 5,500 acres of Federal lands administered by the BLM. The proposed project is in Mineral and Lyon Counties, approximately 55 miles southeast of the Reno metropolitan area, and 11 miles southeast of the town of Yerington. U.S. Route 95 is 7 miles east of the site and State Route 208 is 8 miles west. The electricity generated would be collected at the onsite substation and conveyed to the NV Energy Fort Churchill Substation located northwest of the project site via a generation (gen-tie) transmission line. If approved, the duration for potential construction of the facilities is estimated to be approximately 12 to 18 months.

Segregation of Land

Regulations found at 43 CFR 2091.3-1(e) and 43 CFR 2804.25(f) allow the BLM to temporarily segregate public lands within a solar or wind application area from the operation of the public land laws, including the Mining Law, by publication of a Federal Register notice. The BLM uses this temporary segregation authority to preserve its ability to approve, approve with modifications, or deny proposed ROWs, and to facilitate the orderly administration of the public lands. This temporary segregation is subject to valid existing rights, including existing mining claims located before this segregation notice. Licenses, permits, cooperative agreements, or discretionary land use authorizations of a temporary nature which would not impact lands identified in this notice may be allowed with the approval of an authorized officer of the BLM during the segregation period. The lands segregated under this notice are legally described as follows:

Mount Diablo Meridian, Mineral County, Nevada

Mount Diablo Meridian, Nevada

T. 12N., R. 27E.,

sec. 15 SW¼, SW¼SE¼, SW¼NW¼;

sec. 16 S½, NE¼;

sec. 17 S½;

sec. 20;

sec. 21;

sec. 22 S½, NW¼, W½NE¼;

sec. 23 SW¼SW¼;

sec. 25 SW¼SW¼;

sec. 26 S½, NW¼, SW¼NE¼;

sec. 27 N½, N½SW¼, N½SE¼, SW¼SW¼, SE¼SE¼, SE¼SW¼;

sec. 28;

sec. 29 E½, E½NW¼, E½SW¼;

sec. 32 NE¼, N½SW¼;

sec. 33 NW¼, N½SW¼, NW¼SE¼, SW¼NE¼, NE¼NE¼;

sec. 35 E½, E½NW¼, NW¼NW¼;

sec. 36 W1/2.

The area described contain 5,500 acres, according to the official plats of the surveys and protraction diagrams of the said lands on file with the BLM.

As provided in the regulations, the segregation of lands in this notice will not exceed 2 years from the date of publication unless extended for up to 2 additional years through publication of a new notice in the Federal Register. Termination of the segregation occurs on the earliest of the following dates: upon issuance of a decision by the authorized officer granting, granting with modifications, or denying the application for a ROW; automatically at the end of the segregation; or upon publication of a Federal Register notice of termination of the segregation.

Upon termination of the segregation of these lands, all lands subject to this segregation would automatically reopen to appropriation under the public land laws, including the mining laws.

Purpose and Need for the Proposed Action

The BLM's preliminary purpose and need for this Federal action is to respond to Libra Solar LLC's ROW application under title V of FLPMA (43 U.S.C. 1761) to construct, operate, maintain, and decommission a solar generation power plant and ancillary facilities on approximately 5,500 acres of BLM land in Mineral and Lyon Counties, Nevada. Pursuant to section 501(a)(4) of FLPMA, the BLM is authorized to grant ROWs on public lands for systems of generation, transmission, and distribution of electrical energy.

Preliminary Proposed Action and Alternatives

The proposed action is to approve a ROW to Libra Solar LLC to construct, operate, and eventually decommission the proposed solar photovoltaic project and associated facilities, including battery storage and a gen-tie transmission-line on approximately 5,500 acres of BLM administered lands. The project may have a generating capacity of up to 700 megawatts of alternating current energy.

Under the No Action Alternative, BLM would deny the ROW application for the solar project and associated facilities. The proposed project would not be constructed, and existing land uses in the project area would continue. Additional action alternatives have not been identified but may be developed through consideration of public comments and input received during the application evaluation determination process and scoping. The BLM welcomes comments on all preliminary alternatives as well as suggestions for additional alternatives.

Summary of Expected Impacts

The analysis in the EIS will be focused on the proposed solar project and associated facilities, including battery storage and gen-tie transmission line construction. The BLM decided to continue processing the proposed project application and complete appropriate NEPA compliance per 43 CFR 2800 based on information provided by the Applicant and input from other parties. Through this process, the BLM conducted preliminary public outreach and coordination with agencies and Tribal Nations specific to the proposed project. From the input received, the expected impacts from construction, operation, and eventual decommissioning of the solar project and associated facilities could include:

* Potential effects to cultural resources in the project area from construction activities;

* Potential effects to basin groundwater resources from the proposed construction water needs for the project;

* Potential socioeconomic impacts from the proposed project to local communities;

* Potential air quality impacts from proposed construction activities;

* Potential impacts to vegetation and native plant communities from construction, operations, and decommissioning of the project and associated facilities;

* Potential impacts to rangeland resources from the construction and operation of the facility;

* Potential effects to recreational opportunities and public use of the proposed project area due to construction and operations of the solar facility; and

* Potential cumulative effects with other reasonably foreseeable actions in the area.

Preliminary issues for the project have been identified by the BLM, other Federal agencies, the State, local agencies, Tribes, and the public during the application evaluation process. The following issues may be impacted by the proposed project and will be considered for detailed analysis in the EIS: biological resources, vegetation resources, visual resources, cultural resources, Native American religious concerns, rangeland resources, air quality, climate change, noise, transportation, geology, mineral resources, hazards and hazardous materials, military and civilian aviation, recreation, environmental justice, socioeconomics, water resources, and cumulative effects from reasonably foreseeable actions in the area.

Anticipated Permits and Authorizations

Along with the requested ROW grant from the BLM, Libra Solar LLC anticipates needing the following authorizations and permits for the proposed project: consultation under Section 106 of the National Historic Preservation Act with the Advisory Council on Historic Preservation and Nevada State Historic Preservation Office; Section 404 Permit for Jurisdictional Waters Determination from the U.S. Army Corps of Engineers; Wildlife Special Purpose permit from the Nevada Department of Wildlife; Nevada Division of Environmental Protection Major Source Permit from the Prevention of Significant Deterioration Program, Stormwater and Groundwater Discharge permits and Temporary in Waterways Work permit; Obstruction Evaluation with Federal Aviation Administration in coordination with the U.S. Air Force; Nevada Division of Forestry Native Cacti and Yucca Commercial Salvaging and Transportation Permit; State List Endangered Species Take Permit; Nevada Public Utilities Commission Environmental Protection Act Permit; Nevada Division of Water Resources Groundwater Well Permit; Nevada State Fire Marshall Hazardous Materials Storage permit; Nevada Department of Transportation ROW Occupancy Permit; Mineral County Special Use Permit; and other County permits, as necessary. Further details on these permitting requirements may be found in the Plan of Development for the Libra Solar Project.

Schedule for the Decision-Making Process

The BLM will provide additional opportunities for public participation consistent with the NEPA and land use planning processes, including a 45-day comment period on the Draft EIS. The Draft EIS is anticipated to be available for public review December 2023 and the Final EIS is anticipated to be released in June 2024 with a Record of Decision expected in August 2024.

Public Scoping Process

This notice of intent initiates the scoping period, which will guide the development and analysis of the Draft EIS.

The BLM will be holding one virtual scoping meeting as specified in the Date section of this notice.

The purpose of the public scoping process is to determine relevant issues that will influence the scope of the environmental analysis, including alternatives and mitigation measures, and to guide the process for developing the EIS. Federal, State, and local agencies, along with other stakeholders that may be interested or affected by the BLM's decision on this project, are invited to participate in the scoping process and, if eligible, may request or be requested by the BLM to participate as a cooperating agency. The BLM encourages comments concerning the proposed Libra Solar Project, possible measures to minimize and/or avoid adverse environmental impacts, and any other information relevant to the proposed action.

The BLM also requests assistance with identifying potential alternatives to the proposed action. As alternatives should resolve an issue with the proposed action, please indicate the purpose of the suggested alternative. In addition, the BLM requests the identification of potential issues that should be analyzed. Issues should be a result of the proposed action or alternatives; therefore, please identify the activity along with the potential issues.

Lead and Cooperating Agencies

The BLM Carson City District Office is the lead agency for this EIS. The BLM has initially invited 24 agencies and eight Tribal Nations to be cooperating agencies to participate in the environmental analysis of the project.

Of those invited to date, four agencies have agreed to participate as cooperating agencies: Mineral County, Lyon County, Department of Defense Hawthorne Army Depot, and the Nevada Department of Wildlife. Additional agencies and organizations may be identified as potential cooperating agencies to participate in the environmental analysis of the project.

Responsible Official

The Carson City District Manager is the deciding official for this proposed action.

Nature of Decision To Be Made

In accordance with the BLM's multiple use and sustained yield mandates, the District Manager will decide whether to approve, approve with modification(s), or deny issuance of a ROW grant to the Applicant for the proposed project. Pursuant to 43 CFR 2805.10, if the BLM issues ROW grant(s), the BLM decision maker may include terms, conditions, and stipulations determined to be in the public interest.

Interdisciplinary Team

The BLM will use an interdisciplinary approach to develop the EIS and consider the variety of resource issues and concerns identified. Specialists with expertise in the following disciplines will be involved in this process: air quality, archaeology, botany, climate change (greenhouse gases), environmental justice, fire and fuels, geology/mineral resources and soils, hazardous materials, hydrology, groundwater, invasive/non-native species, jurisdictional delineations, lands and realty, rangelands, public health and safety, recreation/transportation, socioeconomics, soils, visual resources, and wildlife.

Additional Information

The BLM will identify, analyze, and consider mitigation to address the reasonably foreseeable impacts to resources from the proposed action and all analyzed reasonable alternatives and, in accordance with 40 CFR 1502.14(e), include appropriate mitigation measures not already included in the proposed plan amendment or alternatives. Mitigation may include avoidance, minimization, rectification, reduction, elimination over time, and compensation, and may be considered at multiple scales, including the landscape scale.

The BLM will continue to consult with Tribal Nations on a government-to-government basis in accordance with Executive Order 13175, BLM Manual 1780, and other policies. Tribal concerns, including impacts on Indian trust assets and potential impacts to cultural resources, will be given due consideration. Federal, State, and local agencies, along with Tribal Nations and stakeholders that may be interested in or affected by the BLM's proposed action are invited to participate in the scoping process and, if eligible, may request or be requested by the BLM to participate in the development of the EIS as a cooperating agency. The BLM intends to hold a series of government-to-government consultation meetings. The BLM will send invitations to potentially affected Tribal Nations prior to the meetings. The BLM will provide additional opportunities for government-to-government consultation during the NEPA process.

The BLM will also utilize and coordinate the NEPA process to help support compliance with applicable procedural requirements under Section 106 of the National Historic Preservation Act (54 U.S.C. 306108) as provided in 36 CFR 800.8(c). The identification of historic properties and the assessment of effects of the undertaking on these properties will be carried out in a manner consistent with the standards and criteria outlined in 36 CFR 800.4 through 800.5. BLM will consult on the effects of the undertaking on historic properties with the Nevada State Historic Preservation Office, Indian Tribes that might attach religious and cultural significance to affected historic properties, other consulting parties, and the Advisory Council on Historic Preservation. BLM will develop, in consultation with identified consulting parties, alternatives and proposed measures that might avoid, minimize, or mitigate any adverse effects of the undertaking on historic properties and describe them in the Draft EIS. The agency official will provide the Draft EIS to the Nevada State Historic Preservation Office, Tribal Nations that might attach religious and cultural significance to affected historic properties, the Advisory Council on Historic Preservation, and other consulting parties in accordance with 36 CFR 800.8(c) and the BLM's established NEPA Procedures.

Before including your address, phone number, email address, or other personal identifying information in your comment, you should be aware that your entire comment—including your personal identifying information—may be made publicly available at any time. While you can ask us in your comment to withhold your personal identifying information from public review, we cannot guarantee that we will be able to do so.

(Authority: 43 CFR 1610.2, 2800, 43 CFR 2091.3-1(e).)

Kimberly D. Dow,
Carson City District Manager.

[FR Doc. 2023-08560 Filed 4-21-23; 8:45 am]

BILLING CODE 4331-21-P